FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 7, 2000.

A. Federal Reserve Bank of Dallas (W. Arthur Tribble, Vice President) 2200 North Pearl Street, Dallas, Texas 75201-2272:

1. Nancy Allen Marital Trust, Robert Lee, Texas; to acquire additional voting shares of Robert Lee Bancshares, Inc., Robert Lee, Texas, and thereby indirectly acquire additional voting shares of Robert Lee State Bank, Robert Lee, Texas.

Board of Governors of the Federal Reserve System, February 16, 2000.
Jennifer J. Johnson,
Secretary of the Board.

[FR Doc. 00-4152 Filed 2-18-00; 8:45 am]

BILLING CODE 6210-01-P